DEPARTMENT OF COMMERCE

National Oceanic and Atmospheric Administration

Agency Information Collection Activities; Submission to the Office of Management and Budget (OMB) for Review and Approval; Comment Request; Resident Perceptions of Offshore Wind Energy Development Off the Oregon Coast and Along the Gulf of Mexico

AGENCY: National Oceanic & Atmospheric Administration (NOAA), Commerce.

ACTION: Notice of information collection, request for comment.

SUMMARY: The Department of Commerce, in accordance with the Paperwork Reduction Act of 1995 (PRA), invites the general public and other Federal agencies to comment on proposed and continuing information collections, which helps us assess the impact of our information collection requirements and minimize the public's reporting burden. The purpose of this notice is to allow for 60 days of public comment preceding submission of the collection to OMB.

DATES: To ensure consideration, comments regarding this proposed information collection must be received on or before February 26, 2024.

ADDRESSES: Interested persons are invited to submit written comments to Adrienne Thomas, NOAA PRA Officer, at NOAA.PRA@noaa.gov. Please reference OMB Control Number 0648-0744 in the subject line of your comments. Do not submit Confidential Business Information or otherwise sensitive or protected information.

FOR FURTHER INFORMATION CONTACT: Requests for additional information or specific questions related to collection activities should be directed to Dr. Theresa L Goedeke, Supervisory Social Scientist, 1305 East-West Hwy., SSMC 4, Silver Spring, MD 2091, Email: theresa.goedeke@noaa.gov, Ph: (240) 653-9143.

SUPPLEMENTARY INFORMATION:

I. Abstract

This is a request for revision to an existing information collection. Pursuant to E.O. 14057 (Executive Order on Catalyzing Clean Energy Industries and Jobs Through Federal Sustainability), the Outer Continental Shelf Land Act, the National Environmental Policy Act, and the Coastal Zone Management Act, the requested revision will expand the existing data collection, which is currently focused on coastal Oregon, by adding a new geographical location, specifically, coastal Texas and Louisiana along the Gulf of Mexico.

The Bureau of Ocean Energy Management (BOEM) held its first leasing auction for the Gulf of Mexico in August 2023. BOEM finalized four Wind Energy Areas (WEAs) in the Gulf of Mexico in October 2023. Outside of official public engagement forums, preferences about offshore wind energy development generally remain unknown for members of the public, as well as for groups who may not perceive themselves as stakeholders. Failure to gain the perspective of communities regarding potential benefits or impacts is problematic, particularly when latent stakeholders to local projects emerge late in the planning process.

The National Ocean Service (NOS) proposes to expand collection of data on the opinions, values, and attitudes relative to offshore wind energy development to coastal residents of Texas and Louisiana along the Gulf of Mexico in addition to coastal Oregon. Respondents (age 18 years and older) will be randomly sampled from households in 39 coastal counties in Texas and Louisiana. This information will be used by NOAA, BOEM, and others to understand what is important to communities; understand how differing values and perceptions across communities influence local receptivity to proposed development; and improve communication efforts targeted to residents, enabling agencies to more effectively and efficiently direct outreach and community inclusion activities. NOAA has a vested interest in offshore wind energy development, from many perspectives, including as it relates to the resilience, well-being, and sustainability of coastal communities.

II. Method of Collection

Information will be collected with a combination of mail recruitment with push-to-web and mail-back survey instruments.

III. Data

OMB Control Number: 0648-0744.

Form Number(s): None.

Type of Review: Regular Submission. Revision of a currently approved collection.

Affected Public: Individuals or households.

Estimated Number of Respondents: 9,665.

Estimated Time per Response: Focus groups: 1 hour; Questionnaire: 20 minutes.

Estimated Total Annual Burden Hours: 3,286.

Estimated Total Annual Cost to Public: $0.

Respondent's Obligation: Voluntary.

Legal Authority: NOAA's Programmatic Authority—Integrated Coastal and Ocean Observation System Act (33 U.S.C. 3601 et seq.); BOEM's Programmatic Authority—Outer Continental Shelf Lands Act (43 U.S.C. 1346).

IV. Request for Comments

We are soliciting public comments to permit the Department/Bureau to: (a) Evaluate whether the proposed information collection is necessary for the proper functions of the Department, including whether the information will have practical utility; (b) Evaluate the accuracy of our estimate of the time and cost burden for this proposed collection, including the validity of the methodology and assumptions used; (c) Evaluate ways to enhance the quality, utility, and clarity of the information to be collected; and (d) Minimize the reporting burden on those who are to respond, including the use of automated collection techniques or other forms of information technology.

Comments that you submit in response to this notice are a matter of public record. We will include or summarize each comment in our request to OMB to approve this ICR. Before including your address, phone number, email address, or other personal identifying information in your comment, you should be aware that your entire comment—including your personal identifying information—may be made publicly available at any time. While you may ask us in your comment to withhold your personal identifying information from public review, we cannot guarantee that we will be able to do so.

Sheleen Dumas,
Department PRA Clearance Officer, Office of the Under Secretary for Economic Affairs, Commerce Department.

[FR Doc. 2023-28504 Filed 12-26-23; 8:45 am]

BILLING CODE 3510-JE-P